DEPARTMENT OF DEFENSE

Office of the Secretary

[Docket ID: DoD-2013-OS-0009]

Privacy Act of 1974; System of Records

AGENCY: Defense Security Service, DoD.

ACTION: Notice to amend a System of Records.

SUMMARY: The Defense Security Service is amending a system of records notice from its existing inventory of record systems subject to the Privacy Act of 1974 (5 U.S.C. 552a), as amended.

DATES: This proposed action will be effective on March 1, 2013 unless comments are received which result in a contrary determination. Comments will be accepted on or before February 28, 2013.

ADDRESSES: You may submit comments, identified by docket number and title, by any of the following methods:

• Federal Rulemaking Portal: http://www.regulations.gov.

Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leslie Blake, Defense Security Service, Office of FOIA/PA, 27130 Telegraph Road, Quantico, VA 22314 or at (571) 305-6740.

SUPPLEMENTARY INFORMATION: The Defense Security Service systems of records notices subject to the Privacy Act of 1974 (5 U.S.C. 552a), as amended, have been published in the Federal Register and are available from the address in FOR FURTHER INFORMATION CONTACT.

The proposed amendment is not within the purview of subsection (r) of the Privacy Act of 1974 (5 U.S.C. 552a), as amended, which requires the submission of a new or altered system report.

Dated: January 24, 2013.
Aaron Siegel,
Alternate OSD Federal Register Liaison Officer, Department of Defense.

V5-04

System name:

Counterintelligence Issues Database (CII-DB) (August 17, 1999, 64 FR 44704).

Changes:

* * * * *

System location:

Delete entry and replace with “Defense Security Service, Counterintelligence Directorate, 27130 Telegraph Road, Quantico, VA 22134-2253.”

* * * * *

Purpose(s):

Delete entry and replace with “Provides a central database to document, refer, track, monitor and evaluate Counterintelligence indicators/issues surfaced during Personnel Security Investigations and through Administrative Inquiries.”

* * * * *

Storage:

Delete entry and replace with “Paper records and electronic storage media.”

Retrievability:

Delete entry and replace with “Name and file number and/or any entry in the database.”

Safeguards:

Delete entry and replace with “Printed paper records are contained and stored in regulation safes/filing cabinets which are located in a Sensitive Compartmented Information Facility (SCIF) with limited access. The database is also maintained in the SCIF which is password protected and entry provided on a need-to-know basis only.”

* * * * *

System manager(s) and address:

Delete entry and replace with “Defense Security Service, Counterintelligence Directorate, 27130 Telegraph Road, Quantico, VA 22134-2253.”

Notification procedure:

Delete entry and replace with “Individuals seeking to determine whether information about themselves is contained in this system should address written inquiries to the Defense Security Service, Office of FOIA/PA, 27130 Telegraph Road, Quantico, VA 22134-2253.

Requesters should provide full name and for verification purposes only former names used, date and place of birth, and Social Security Number.”

Record access procedures:

Delete entry and replace with “Individuals seeking access to information about themselves contained in this system of records should address written inquiries to Defense Security Service, Office of FOIA/PA, 27130 Telegraph Road, Quantico, VA 22134-2253.

Requesters should provide full name and for verification purposes only former names used, date and place of birth, and Social Security Number.”

Contesting record procedures:

Delete entry and replace with “DSS' rules for accessing records, contesting contents, and appealing initial agency determinations are contained in DSS Regulation 01-13: 32 CFR part 321; or may be obtained from the Defense Security Service, Office of FOIA/PA, 27130 Telegraph Road, Quantico, VA 22134-2253.”

* * * * *

[FR Doc. 2013-01795 Filed 1-28-13; 8:45 am]

BILLING CODE 5001-06-P